FEDERAL COMMUNICATIONS COMMISSION

47 CFR Part 27

[WT Docket Nos. 06-169, 96-86; DA 06-2116]

Upper 700 MHz Guard Band Licenses; Development of Operational, Technical and Spectrum Requirements for Meeting Federal, State and Local Public Safety Communications Requirements Through the Year 2010

AGENCY: Federal Communications Commission.

ACTION: Proposed rule; extension of reply comment period.

SUMMARY: In this document, the Wireless Telecommunications Bureau (WTB) of the Federal Communications Commission (Commission) extends the reply comment deadline in response to the Notice of Proposed Rulemaking (NPRM) in WT Docket Nos. 06-169 and 96-86. The deadline to file reply comments is extended from November 6, 2006 to November 13, 2006. This action is taken to provide interested parties sufficient time within which to respond meaningfully to the relevant issues raised in the NPRM.

DATES: The agency must receive reply comments on or before November 13, 2006.

ADDRESSES: Interested parties may submit reply comments, identified by WT Docket Nos. 06-169 and 96-86, by any of the following methods:

• Federal eRulemaking Portal: http://www.regulations.gov. Follow the instructions for submitting comments.

• Federal Communications Commission's Web Site: http://www.fcc.gov/cgb/ecfs/. Follow the instructions for submitting comments.

• Mail: Appropriate addresses for submitting reply comments may be found in the SUPPLEMENTARY INFORMATION section of this document.

• People with Disabilities: Contact the FCC to request reasonable accommodations (accessible format documents, sign language interpreters, CART, etc.) by e-mail: FCC504@fcc.gov or phone: 202-418-0530 or TTY: 202-418-0432.

For detailed instructions for submitting reply comments, see the SUPPLEMENTARY INFORMATION section of this document.

FOR FURTHER INFORMATION CONTACT: Paul Moon, Wireless Telecommunications Bureau, at 202-418-1793, or via email at Paul.Moon@fcc.gov.

SUPPLEMENTARY INFORMATION: This is a summary of the Wireless Telecommunications Bureau's Order (Order), DA 06-2116, in WT Docket Nos. 06-169 and 96-86, released October 25, 2006, which extends the reply comments filing deadline in the 700 MHz Guard Bands proceeding. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: http://www.fcc.gov. Alternative formats are available to persons with disabilities by sending an e-mail to fcc504@fcc.gov or by calling the Consumer & Governmental Affairs Bureau at 202-418-0530 (voice), 202-418-0432 (TTY).

Synopsis of the Order

1. On September 8, 2006, the Commission released the NPRM in WT Docket Nos. 06-169 and 96-86; FCC 06-133, published at 71 FR 55149, September 21, 2006, seeking public comment regarding, inter alia, proposals on possible changes to the Part 27 service rules applicable to existing and prospective Upper 700 MHz Guard Bands licensees as well as on proposals to modify the existing Upper 700 MHz band plan with respect to the Guard Bands. Deadlines for the filing of comments and reply comments were established as October 23, 2006, and November 6, 2006, respectively.

2. On October 20, 2006, the State of Maryland, Commonwealth of Virginia, Loudoun County, Virginia, and the Region 20 Regional Planning Committee each filed a request for extension of time to submit comments in response to the NPRM. The parties argue that the NPRM raised complex issues, and assert that any change to the existing 700 MHz Public Safety band plan will affect their plans for public safety communications. The parties state that they require additional time to more thoroughly analyze the complex issues raised, and request extensions of time ranging from “no less than 30 days” to 60 days in which to file comments.

3. Motions for extension of time will not be granted routinely. In addition, the Commission's rules require that motions for extensions of time shall be filed 7 days before the filing date. In an emergency situation, the Commission may consider a late-filed motion for a brief extension of time related to the duration of the emergency. Pursuant to the Commission's rules, extension requests were due by October 16, 2006, in this matter. The parties, however, did not submit motions for extension of time until October 20, 2006, nor did they provide sufficient information upon which the Commission may grant emergency relief. The Commission therefore concludes that it is unable to extend the comments deadline of October 23, 2006.

4. However, in order to provide all interested parties with a full and fair opportunity to participate in this proceeding, the Commission finds that it is in the public interest to extend the reply comment deadline by 7 days until November 13, 2006. While the Commission finds that it is appropriate to provide additional time in order to build a more thorough and complete record, it is also cognizant of the concerns raised by the public safety community that the Commission address the issues raised in this proceeding in a prompt and timely manner. Accordingly, by extending the reply comments deadline by 7 days, the Commission strikes a balance between providing commenters with adequate time in which to respond to the NPRM, and ensuring that this proceeding is resolved expeditiously. In this regard, it should be noted that the Commission does not anticipate granting further extensions to the reply comments deadline.

5. Pursuant to sections 1.415 and 1.419 of the Commission's rules, 47 CFR 1.415, and 1.419, interested parties may file reply comments on or before November 13, 2006. Comments may be filed using: (1) The Commission's Electronic Comment Filing System (ECFS), (2) the Federal Government's eRulemaking Portal, or (3) by filing paper copies. See Electronic Filing of Documents in Rulemaking Proceedings, 63 FR 24121, May 1, 1998.

• Electronic Filers: Comments may be filed electronically using the Internet by accessing the ECFS: http://www.fcc.gov/cgb/ecfs/ or the Federal eRulemaking Portal: http://www.regulations.gov. Filers should follow the instructions provided on the Web site for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail (although the Commission continues to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington, DC 20554.

People with Disabilities: To request materials in accessible formats for people with disabilities (braille, large print, electronic files, audio format), send an e-mail to fcc504@fcc.gov or call the Consumer & Governmental Affairs Bureau at 202-418-0530 (voice), 202-418-0432 (tty).

Ordering Clause

6. Pursuant to sections 4(i) and 4(j) of the Communications Act of 1934, as amended, 47 U.S.C. 154(i) and 154(j), and §§ 0.131, 0.331, and 1.46 of the Commission's rules, 47 CFR 0.131, 0.331, and 1.46, the deadline for filing reply comments in response to the NPRM, published on September 21, 2006, in WT Docket Nos. 06-169 and 96-86, is extended to November 13, 2006.

Federal Communications Commission.
Catherine W. Seidel,
Acting Chief, Wireless Telecommunications Bureau.

[FR Doc. 06-9102 Filed 11-3-06; 8:45 am]

BILLING CODE 6712-01-P